FEDERAL TRADE COMMISSION

Granting of Request for Early Termination of the Waiting Period Under the Premerger Notification Rules

Section 7A of the Clayton Act, 15 U.S.C. 18a, as added by Title 11 of the Hart-Scott Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

TRANSACTION GRANTED EARLY TERMINATION
ET date | Trans. No. | ET req status | Party name
17-AUG-10 | 20100346 | G | Novartis AG.
|  | G | Nestle S.A.
|  | G | Alcon, Inc.
| 20100920 | G | Corn Products International, Inc.
|  | G | Akzo Nobel N.V.
|  | G | National Starch LLC.
|  | G | Brunob II BV.
| 20100978 | G | ValueAct Capital Master Fund, L.P.
|  | G | Biovail Corporation.
|  | G | Biovail Corporation.
| 20100990 | G | Blackstone Capital Partners III Merchant Banking Fund L.P.
|  | G | Liquid Container L.P.
|  | G | Liquid Container L.P.
18-AUG-10 | 20100935 | G | Lance, Inc.
|  | G | Snyder's of Hanover, Inc.
|  | G | Snyder's of Hanover, Inc.
| 20100937 | G | Michael A. Warehime.
|  | G | Lance, Inc.
|  | G | Lance, Inc.
| 20100979 | G | Health Management Associates, Inc.
|  | G | Wuesthoff Health Systems, Inc.
|  | G | Wuesthoff Health Systems, Inc.
| 20100981 | G | Key Energy Services, Inc.
|  | G | ArcLight Energy Partners Fund III, L.P.
|  | G | OFS Holdings, LLC.
|  | G | OFS Energy Services, LLC.
|  | G | Davis Energy Services, LLC.
|  | G | QCP Energy Services, LLC.
|  | G | Swan Energy Services, LLC.
| 20100982 | G | ArcLight Energy Partners Fund III, L.P.
|  | G | Key Energy Services, Inc.
|  | G | Key Energy Services, Inc.
| 20100983 | G | Tyco Electronics Ltd.
|  | G | ADC Telecommunications, Inc.
|  | G | ADC Telecommunications, Inc.
19-AUG-10 | 20100839 | G | Select Medical Holdings Corporation.
|  | G | Waud Capital Partners, L.P.
|  | G | Regency Hospital Company, L.L.C.
| 20100944 | G | Griffon Corporation.
|  | G | Castle Harlan Partners IV, L.P.
|  | G | CHATT Holdings, Inc.
| 20100984 | G | Audax Private Equity Fund III, L.P.
|  | G | General Electric Company.
|  | G | Distribution International, Inc.
| 20100996 | G | Community Health Systems, Inc.
|  | G | Forum Health Holding Company.
|  | G | Forum Health Holding Company.
20-AUG-10 | 20100974 | G | UnitedHealth Group Incorporated.
|  | G | ABRY Partners V, L.P.
|  | G | EHR Intermediate Holdings, Inc.
| 20100989 | G | TCV VII, L.P.
|  | G | DataDirect Networks, Inc.
|  | G | DataDirect Networks, Inc.
| 20100992 | G | Arrow Electronics, Inc.
|  | G | LC Capital Offshore Fund, Ltd.
|  | G | Shared Technologies Inc.
| 20100994 | G | Regency Energy Partners LP.
|  | G | Zephyr Gas Services, LP.
|  | G | Zephyr Gas Services, LP.
| 20100997 | G | The Walt Disney Company.
|  | G | Playdom, Inc.
|  | G | Playdom, Inc.
| 20101004 | G | Danaher Corporation.
|  | G | Arbor Networks, Inc.
|  | G | Arbor Networks, Inc.
| 20101005 | G | WS Atkins plc.
|  | G | The PBSJ Corporation.
|  | G | The PBSJ Corporation.
| 20101007 | G | Pace plc.
|  | G | 2Wire, Inc.
|  | G | 2Wire, Inc.
23-AUG-10 | 20101003 | G | Irving Place Capital Partners III, L.P.
|  | G | Total Pet Supplies, Inc.
|  | G | Royal Pet, LLC.
24-AUG-10 | 20101022 | G | Cerberus Institutional Partners, L.P.
|  | G | Cerberus ABP Investor LLC.
|  | G | Cerberus ABP Investor LLC.
25-AUG-10 | 20100966 | G | Brockway Moran Partners Fund III, L.P.
|  | G | Talisman Capital Partners I, L.P.
|  | G | Turning Tech Holdings, LLC.
| 20101015 | G | Algonquin Power Utilities Corp.
|  | G | NV Energy, Inc.
|  | G | Sierra Pacific Power Company.
26-AUG-10 | 20100956 | G | AMN Healthcare Services, Inc.
|  | G | NF Investors, Inc.
|  | G | NF Investors, Inc.
| 20100957 | G | The Goldman Sachs Group, Inc.
|  | G | AMN Healthcare Services, Inc.
|  | G | AMN Healthcare Services, Inc.
| 20100967 | G | Mylan Inc.
|  | G | RoundTable Healthcare Partners II, L.P.
|  | G | Bioniche Pharma Holdings Limited.
| 20101001 | G | AIF VII Euro Holdings, L.P.
|  | G | Rio Tinto Limited.
|  | G | Pechiney World Trade S.A.S.
|  | G | Alcan Aluminum Valais S.A.
|  | G | Alcan International Network UK Limited.
|  | G | Alcan Rolled Products—Ravenswood LLC.
|  | G | Alcan Automotive LLC.
|  | G | AIN USA LLC.
|  | G | Engineered Products Switzerland A.G.
|  | G | Engineered Products Finance SAS.
|  | G | Alcan France Extrusions S.A.S.
|  | G | Alcan Centre de Recherches de Voreppe SAS.
|  | G | Societe des Fonderies d'Ussel SAS.
|  | G | Alcan Aerospace SAS.
|  | G | Alcan Rhenalu S.A.S.
|  | G | Alcan Decin Extrusions s.r.o, Decin V.
|  | G | Alcan Holdings Germany GmbH.
|  | G | Alcan Slovensko Extrusions s.r.o.
27-AUG-10 | 20100676 | G | UAL Corporation.
|  | G | Continental Airlines, Inc.
|  | G | Continental Airlines, Inc.
| 20100959 | G | OCM Principal Opportunities Fund IV, L.P.
|  | G | Advance Food Company Holdings, Inc.
|  | G | Advance Food Company, Inc.
| 20101002 | G | Alfa S.A.B. de C.V.
|  | G | Timothy T. Day.
|  | G | Bar-S Foods Co.
| 20101019 | G | Pinafore Investment Cooperatief U.A.
|  | G | Tomkins plc.
|  | G | Tomkins plc.
| 20101020 | G | Nokia Corporation.
|  | G | Motorola, Inc.
|  | G | Motorola, Inc.
| 20101019 | G | Timothy T. Day.
| 20101024 | G | Onex Partners II L.P.
|  | G | Riverside Fund III, L.P.
|  | G | Quantum Medical Holdings, LLC.
| 20101025 | G | Constellation Energy Group, Inc.
|  | G | EBG Holdings LLC.
|  | G | BG Boston Services, LLC.
|  | G | Fore River Development, LLC.
|  | G | Mystic Development, LLC.
|  | G | Mystic I, LLC.
|  | G | Boston Generating, LLC.
|  | G | BG New England Power Services, Inc.
| 20101028 | G | Irving Place Capital Partners III, L.P.
|  | G | Stonebridge Partners Equity Fund III, L.P.
|  | G | Alpha Packaging Holdings, Inc.
| 20101029 | G | Knology, Inc.
|  | G | The World Company.
|  | G | The World Company.
| 20101031 | G | Markel Corporation.
|  | G | Luke W. Yeransian.
|  | G | Aspen Holdings, Inc.
| 20101033 | G | Li & Fung Limited.
|  | G | Jimlar Corporation.
|  | G | Jimlar Corporation.
| 20101037 | G | Koch Industries, Inc.
|  | G | The Royal Bank of Scotland Group plc.
|  | G | Hawkeye Menlo, LLC.
|  | G | Hawkeye Shell Rock, LLC.
|  | G | Hawkeye Growth, LLC.
31-AUG-10 | 20100962 | G | American Electric Power Company, Inc.
|  | G | Valley Electric Membership Corporation.
|  | G | Valley Electric Membership Corporation.
01-SEP-10 | 20101017 | G | Wyle Inc.
|  | G | ITT Corporation.
|  | G | CAS Inc.
| 20101038 | G | Safran S.A.
|  | G | HCM Custom Holdings, Inc.
|  | G | Harvard Custom Manufacturing Inc.
03-SEP-10 | 20101000 | G | A.I. Global Investments Sarl.
|  | G | The Royal Bank of Scotland Group plc.
|  | G | RBS WorldPay, Inc.
| 20101039 | G | Thoma Bravo Fund IX, L.P.
|  | G | Emerson Electric Co.
|  | G | Crimson Acquisition Corp.
| 20101041 | G | Mr. Malvinder Mohan Singh.
|  | G | Northgate Capital L.P.
|  | G | Northgate Capital L.P.
| 20101042 | G | Mr. Shivinder Mohan Singh.
|  | G | Northgate Capital L.P.
|  | G | Northgate Capital L.P.
| 20101046 | G | GSW Sports LLC.
|  | G | Christopher Cohan.
|  | G | Golden State Warriors, LLC.
| 20101048 | G | PCM U.S. Acquisition Company.
|  | G | General Motors Company.
|  | G | GM Global Steering Holdings LLC.
| 20101056 | G | Triangle Acquisition Holdings, Inc.
|  | G | INC Research, Inc.
|  | G | INC Research, Inc.
| 20101061 | G | Emergent BioSolutions, Inc.
|  | G | Trubion Pharmaceuticals, Inc.
|  | G | Trubion Pharmaceuticals, Inc.
| 20101062 | G | E. Stanley Kroenke.
|  | G | Georgia Frontiere Revocable Trust u/d/t 2/18/03.
|  | G | The St. Louis Rams Partnership.
| 20101063 | G | Quad-C Partners VII, L.P.
|  | G | Stonebridge Partners Equity Fund III, L.P.
|  | G | Durcon Laboratory Tops Holdings, Inc.
| 20101066 | G | Gryphon Partners III, L.P.
|  | G | Olympus Growth Fund IV, L.P.
|  | G | Ann's House of Nuts, Inc.
| 20101067 | G | First Reserve Fund XI, L.P.
|  | G | Quicksilver Resources Inc.
|  | G | Quicksilver Gas Services Holdings LLC.
| 20101070 | G | VHS Holdings, LLC.
|  | G | The Detroit Medical Center.
|  | G | Metro TPA Services, Inc.
|  | G | Detroit Medical Central Cooperative Services.
|  | G | Huron Valley Hospital, Inc.
|  | G | Rehabilitation Institute, Inc.
|  | G | Children's Hospital of Michigan.
|  | G | Detroit Receiving Hospital and University Health Center.
|  | G | Harper-Hutzel Hospital.
|  | G | The Detroit Medical Center.
|  | G | Michigan Mobile Pet CT, LLC.
|  | G | HealthSource.
|  | G | DMC Primary Care Services II.
|  | G | Sinai Hospital of Greater Detroit.
|  | G | DMC Orthopedic Billing Associates, LLC.
07-SEP-10 | 20101050 | G | Intel Corporation.
|  | G | Texas Instruments Incorporated.
|  | G | Texas Instruments Incorporated.
| 20101057 | G | NRG Energy, Inc.
|  | G | Harbinger Capital Partners Master Fund I, Ltd.
|  | G | Cottonwood Development LLC.
| 20101069 | G | Blackstone Capital Partners V, L.P.
|  | G | Dynegy Inc.
|  | G | Dynegy Inc.
08-SEP-10 | 20100991 | G | Acergy S.A.
|  | G | Subsea 7 Inc.
|  | G | Subsea 7 Inc.
| 20101065 | G | NRG Energy, Inc.
|  | G | Blackstone Capital Partners V, L.P.
|  | G | Dynegy Oakland, LLC.
|  | G | Dynegy Morro Bay, LLC.
|  | G | Casco Bay Energy Company, LLC.
|  | G | Dynegy, Inc.
|  | G | Dynegy Moss Landing, LLC.
| 20101077 | G | Sprint Nextel Corporation.
|  | G | Wirefree Partners II, LLC.
|  | G | Wirefree Partners III, LLC.
09-SEP-10 | 20101012 | G | Goodrich Corporation.
|  | G | DLJ Merchant Banking Partners II, L.P.
|  | G | Precision Pattern, Inc.
|  | G | DeCrane Aerospace, Inc.
|  | G | DeCrane Cabin Interiors Canada, Inc.
|  | G | DeCrane Holdings Co.
|  | G | PCI Newco, Inc.
|  | G | Audio International, Inc.
|  | G | Carl F. Booth Co., LLC.
|  | G | DeCrane Aerospace Interior Products, LLC.
|  | G | DeCrane Aircraft Seating Company.
| 20101034 | G | Bruker Corporation.
|  | G | Veeco Instruments Inc.
|  | G | Veeco Korea Inc.
|  | G | Veeco Taiwan Inc.
|  | G | Veeco Instruments (Shanghai) Co. Ltd.
|  | G | Veeco Metrology Inc.
|  | G | Nippon Veeco K.K.
|  | G | Veeco Asia Pte. Ltd.
|  | G | Veeco Malaysia Sdn. Bhd.
|  | G | Veeco Instruments GmbH.
|  | G | Veeco Instruments Limited.
|  | G | Veeco Instruments S.A.S.
|  | G | Veeco Instruments B.V.
| 20101053 | G | Nestle S.A.
|  | G | Waggin' Train Holdings, LLC.
|  | G | Waggin' Train Holdings, LLC.
10-SEP-10 | 20101026 | G | Life Technologies Corporation.
|  | G | Ion Torrent Systems Incorporated.
|  | G | Ion Torrent Systems Incorporated.
| 20101082 | G | 3M Company.
|  | G | Francisco Partners II (Cayman), L.P.
|  | G | Attenti Holdings S.A.
| 20101088 | G | Kenexa Corporation.
|  | G | Salary.com.
|  | G | Salary.com.
| 20101091 | G | 3M Company Cogent, Inc.
|  | G | Cogent, Inc.
13-SEP-10 | 20101016 | G | Medco Health Solutions, Inc.
|  | G | United BioSource Corporation.
|  | G | United BioSource Corporation.
| 20101072 | G | SkyWest, Inc.
|  | G | ExpressJet Holdings, Inc.
|  | G | ExpressJet Holdings, Inc.
14-SEP-10 | 20101045 | G | Windstream Corporation.
|  | G | Albert E. Cinelli.
|  | G | Q-Comm Corporation.
| 20101073 | G | American Securities Partners V, L.P.
|  | G | Advanced Drainage Systems, Inc.
|  | G | Advanced Drainage Systems, Inc.
| 20101083 | G | Marlin Equity III, L.P.
|  | G | Phoenix Technologies, Ltd.
|  | G | Phoenix Technologies, Ltd.
| 20101085 | G | General Atlantic Partners 88, L.P.
|  | G | Excellere Capital Fund, L.P.
|  | G | Urgent Care Holdings, Inc.
| 20101086 | G | Kelso Investment Associates VIII, L.P.
|  | G | LRI Holdings, Inc.
|  | G | LRI Holdings, Inc.
| 20101087 | G | Filmyard Holdings, LLC.
|  | G | Miramax Film NY, LLC.
|  | G | The Walt Disney Company.
| 20101089 | G | Green Equity Investors V, L.P.
|  | G | Prospect Medical Holdings, Inc.
|  | G | Prospect Medical Holdings, Inc.
| 20101090 | G | Court Square Capital Partners II, LP.
|  | G | Fibertech Networks, LLC.
|  | G | Fibertech Networks, LLC.
| 20101092 | G | First Reserve Fund XI, L.P.
|  | G | K-Sea Transportation Partners L.P.
|  | G | K-Sea Transportation Partners L.P.
| 20101094 | G | Arbor Investments II, L.P.
|  | G | FFC Parent Holding Company, LLC.
|  | G | FFC Parent Holding Company, LLC.
| 20101095 | G | Deep End Holdings, LLC.
|  | G | Leslie's Holdings, Inc.
|  | G | Leslie's Holdings, Inc.
| 20101096 | G | PricewaterhouseCoopers LLP.
|  | G | Diamond Management & Technology Consultants, Inc.
|  | G | Diamond Management & Technology Consultants, Inc.
| 20101097 | G | Wellspring Capital Partners IV, L.P.
|  | G | Allen J. Cohn.
|  | G | Forrest City Grocery Co.
| 20101098 | G | Wellspring Capital Partners IV, L.P.
|  | G | David J. Cohn, Settlor o/t David J. Cohn Revocable Trust.
|  | G | Forrest City Grocery Co.
| 20101099 | G | New Enterprise Associates 11, L.P.
|  | G | Tableau Software, Inc.
|  | G | Tableau Software, Inc.
| 20101103 | G | Emdeon Inc.
|  | G | Chamberlin Edmonds Holdings, LLC.
|  | G | Chamberlin Edmonds & Associates, Inc.
|  | G | Chamberlin Edmonds Holdings, Inc.
15-SEP-10 | 20101084 | G | Cerberus Institutional Partners, L.P.
|  | G | GeoEye, Inc.
|  | G | GeoEye, Inc.
17-SEP-10 | 20101027 | G | Experian plc.
|  | G | Mighty Net, Inc.
|  | G | Mighty Net, Inc.
| 20101106 | G | New Mountain Partners III, L.P.
|  | G | Stroz Friedberg, Inc.
|  | G | Stroz Friedberg, Inc.
| 20101113 | G | Bank of America Corporation.
|  | G | Unite Private Networks, L.L.C.
|  | G | Unite Private Networks, L.L.C.
| 20101128 | G | H.I.G. Bayside Debt & LBO Fund II, L.P.
|  | G | Dayton-Cox Trust A.
|  | G | Dent Wizard International Corporation.

FOR FURTHER INFORMATION CONTACT: Sandra M. Peay, Contact Representative, or Renee Chapman, Contact Representative, Federal Trade Commission Premerger Notification Office, Bureau of Competition, Room H-303, Washington, DC 20580, (202) 326-3100.

By direction of the Commission.
Donald S. Clark,
Secretary.

[FR Doc. 2010-24415 Filed 9-30-10; 8:45 am]

BILLING CODE 6750-01-M